DEPARTMENT OF VETERANS AFFAIRS

[OMB Control No. 2900-0565]

Agency Information Collection Activity Under OMB Review: State or Tribal Organization Application for Interment Allowance (Under 38 U.S.C. Chapter 23)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0565.

FOR FURTHER INFORMATION CONTACT: Maribel Aponte, Office of Enterprise and Integration, Data Governance Analytics (008), 1717 H Street NW, Washington, DC 20006, (202) 266-4688 or email maribel.aponte@va.gov. Please refer to “OMB Control No. 2900-0565” in any correspondence.

SUPPLEMENTARY INFORMATION:

Authority: 38 U.S.C. 2302 and 2303.

Title: State or Tribal Organization Application for Interment Allowance (Under 38 U.S.C. Chapter 23); VA Form 21P-530a.

OMB Control Number: 2900-0565.

Type of Review: Revision of a currently approved collection.

Abstract: The Department of Veterans Affairs (VA) through its Veterans Benefits Administration (VBA) administers an integrated program of benefits and services, established by law, for Veterans, service personnel, and their dependents and/or beneficiaries. VA Form 21P-530a is used to gather the information required to determine whether a State or Tribal Organization is eligible for interment allowances for eligible Veterans who have been buried in a State Veterans' cemetery or Tribal Trust land. Information is requested by this form under the authority of 38 U.S.C. 2302 and 2303.

The respondent burden has decreased due to the estimated number of receivables averaged over the past year.

An agency may not conduct or sponsor, and a person is not required to respond to a collection of information unless it displays a currently valid OMB control number. The Federal Register Notice with a 60-day comment period soliciting comments on this collection of information was published at 87 FR 25360 on April 28, 2022, page 25360.

Affected Public: Individuals or Households.

Estimated Annual Burden: 2,795 hours.

Estimated Average Burden per Respondent: 5 minutes.

Frequency of Response: One time.

Estimated Number of Respondents: 33,544.

By direction of the Secretary.
Maribel Aponte,
VA PRA Clearance Officer, Office of Enterprise and Integration, Data Governance Analytics, Department of Veterans Affairs.

[FR Doc. 2022-14910 Filed 7-12-22; 8:45 am]

BILLING CODE 8320-01-P